THE COMMISSION OF FINE ARTS

2003 National Capital Arts and Cultural Affairs Program

Notice is hereby given that Pub. L. 99-190, as amended, authorizing the National Capital Arts and Cultural Affairs Program, has been funded for 2003 in the amount of $7,000,000.00. All requests for information and applications for grants should be received by 31 December 2002 and addressed to: Charles H. Atherton, Secretary, Commission of Fine Arts, National Building Museum, Suite 312, 441 F Street, NW., Washington, DC 20001-2728. Phone: (202) 504-2200.

Deadline for receipt of grant applications is March 1, 2003.

This program provides grants for general operating support of organizations whose primary purpose is performing, exhibiting, and/or presenting the arts. To be eligible for a grant, organizations must be located in the District of Columbia, must be non-profit, non-academic institutions of demonstrated national repute, and must have annual incomes, exclusive of federal funds, in excess of one million dollars for each of the past three years.

Charles H. Atherton,
Secretary.

[FR Doc. 02-30883 Filed 12-5-02; 8:45 am]

BILLING CODE 6330-01-M